DEPARTMENT OF ENERGY

Federal Energy Regulatory Commission

[Docket No. CP22-21-000; Docket No. CP22-22-000]

Venture Global CP2 LNG, LLC, Venture Global CP Express, LLC; Notice of Availability of the Draft Environmental Impact Statement for the Proposed CP2 LNG AND CP Express Project

The staff of the Federal Energy Regulatory Commission (FERC or Commission) has prepared a draft environmental impact statement (EIS) for the CP2 LNG and CP Express Projects (Project), proposed by Venture Global CP2 LNG, LLC (CP2 LNG) and Venture Global CP Express, LLC (CP Express) in the above-referenced dockets. CP2 LNG and CP Express request authorizations to construct, install, own, operate, and maintain certain liquefied natural gas (LNG) facilities in Cameron Parish, Louisiana and certain pipeline facilities in Cameron and Calcasieu Parishes, Louisiana and Jasper and Newton Counties, Texas.

The draft EIS assesses the potential environmental effects of the construction and operation of the Project in accordance with the requirements of the National Environmental Policy Act (NEPA). The FERC staff concludes that approval of the proposed Project, with the mitigation measures recommended in the EIS, would have some adverse environmental impact. However, most of these impacts would be avoided or reduced to less-than-significant levels, with the exception of climate change and visual resources, including cumulative visual impacts, and visual impacts on environmental justice communities in the region. Climate change impacts are not characterized in the EIS as significant or insignificant.

The U.S. Army Corps of Engineers New Orleans and Galveston Districts, U.S. Department of Energy, U.S. Coast Guard, U.S. Department of Transportation's Pipeline and Hazardous Materials Safety Administration, and National Marine Fisheries Service participated as cooperating agencies in the preparation of the EIS. Cooperating agencies have jurisdiction by law or special expertise with respect to resources potentially affected by the proposal and participate in the NEPA analysis. The U.S. Army Corps of Engineers New Orleans and Galveston Districts will adopt and use the EIS to consider compliance with Section 404 of the Clean Water Act of 1972, as amended and Section 10 of the Rivers and Harbors Act of 1899. Although the cooperating agencies provided input to the conclusions and recommendations presented in the draft EIS, the agencies will present their own conclusions and recommendations in their respective Records of Decision for the Project.

The draft EIS addresses the potential environmental effects of the construction and operation of the following Project facilities:

• a liquefaction plant consisting of 18 liquefaction blocks and ancillary support facilities, each block having a nameplate capacity of about 1.1 million tonnes per annum of LNG;

• six pretreatment systems, each including an amine gas-sweetening unit to remove carbon dioxide (CO2) and a molecular sieve dehydration system to remove water;

• four 200,000 cubic meter aboveground full containment LNG storage tanks (two per phase) with cryogenic pipeline connections to the liquefaction plant and to the berthing docks;

• carbon capture and sequestration facilities, including carbon capture equipment within the terminal site as well as a non-jurisdictional CO2 send-out pipeline outside of the terminal site; ¹

¹ CP2 LNG anticipates this pipeline would be installed under the southern portion of the Terminal Site floodwall and terminate at a non-jurisdictional offshore platform in State of Louisiana waters.

• a combined cycle natural gas turbine power plant with a nameplate capacity of 1,470 megawatts;

• two marine LNG loading docks and turning basins and two cryogenic lines for LNG transfer from the storage tanks to the docks;

• administration, control, maintenance, and warehouse buildings and related parking lots;

• 85.4 miles of 48-inch-diameter natural gas pipeline (CP Express Pipeline);

• 6.0 miles of 24-inch-diameter natural gas lateral pipeline connecting to the CP Express Pipeline in northwest Calcasieu Parish (Enable Gulf Run Lateral);

• one 187,000-horsepower natural gas-fired compressor station (Moss Lake Compressor Station);

• six meter stations (five at interconnects with existing pipelines and one at the terminus of the CP Express Pipeline within the Terminal Site); and

• other appurtenant facilities.²

² The LNG terminal would also include the following non-jurisdictional facilities: electrical transmission line and substation, water pipeline, septic system, and stormwater facilities/outfalls.

The Commission mailed a copy of the Notice of Availability of the draft EIS to federal, state, and local government representatives and agencies; elected officials; environmental and public interest groups; Native American tribes; potentially affected landowners and other interested individuals and groups; and newspapers and libraries in the Project area. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field, excluding the last three digits (i.e. CP22-21 or CP22-22). Be sure you have selected an appropriate date range. For assistance, please contact FERC Online Support at FercOnlineSupport@ferc.gov or toll free at (866) 208-3676, or for TTY, contact (202) 502-8659.

The number of pages in the draft EIS exceeds the page limits set forth in the Council on Environmental Quality's July 16, 2020 final rule, Update to the Regulations Implementing the Procedural Provisions of the National Environmental Policy Act (85 FR 43304). Noting the scope and complexity of the proposed action and action alternatives, the Director of the Office of Energy Projects, as our senior agency official, has authorized this page limit exceedance for this draft EIS.

The draft EIS is not a decision document. It presents Commission staff's independent analysis of the environmental issues for the Commission to consider when addressing the merits of all issues in this proceeding. Any person wishing to comment on the draft EIS may do so. Your comments should focus on draft EIS's disclosure and discussion of potential environmental effects, measures to avoid or lessen environmental impacts, and the completeness of the submitted alternatives, information, and analyses. To ensure consideration of your comments on the proposal in the final EIS, it is important that the Commission receive your comments on or before 5:00 p.m. Eastern Time on March 13, 2023.

For your convenience, there are four methods you can use to submit your comments to the Commission. The Commission will provide equal consideration to all comments received, whether filed in written form or provided orally. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature also on the Commission's website (www.ferc.gov) under the link to FERC Online. With eFiling, you can provide comments in a variety of formats by attaching them as a file with your submission. New eFiling users must first create an account by clicking on “eRegister.” If you are filing a comment on a particular project, please select “Comment on a Filing” as the filing type;

(3) You can file a paper copy of your comments by mailing them to the Commission. Be sure to reference the Project docket number (CP22-21 and CP22-22) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852; or

(4) In lieu of sending written or electronic comments, the Commission invites you to attend one of the public comment sessions its staff will conduct in the Project area to receive comments on the draft EIS, scheduled as follows:

Date and Time | Location
Wednesday, March 1, 2023, 5:00 p.m.-8:00 p.m | Ward 7 Community Center, 1615 Horridge Street, Vinton, LA 70668, (337) 589-5181.
Thursday, March 2, 2023, 5:00 p.m.-8:00 p.m | Cameron Parish Police Jury Room, 148 Smith Circle, Cameron, LA 70631, (337) 775-5718.

The primary goal of these comment sessions is to have you identify the specific environmental issues and concerns with the draft EIS. Individual oral comments will be taken on a one-on-one basis with a court reporter. This format is designed to receive the maximum amount of oral comments, in a convenient way during the timeframe allotted.

Each comment session is scheduled from 5:00 p.m. to 8:00 p.m. Central Standard Time. You may arrive at any time after 5:00 p.m. There will not be a formal presentation by Commission staff when the session opens. If you wish to speak, the Commission staff will hand out numbers in the order of your arrival. Comments will be taken until 8:00 p.m. However, if no additional numbers have been handed out and all individuals who wish to provide comments have had an opportunity to do so, staff may conclude the session at 7:30 p.m.

Your oral comments will be recorded by the court reporter (with FERC staff or representative present) and become part of the public record for this proceeding. Transcripts will be publicly available on FERC's eLibrary system (see page 3 for instructions on using eLibrary). If a significant number of people are interested in providing oral comments in the one-on-one settings, a time limit of 5 minutes may be implemented for each commentor. Although there will not be a formal presentation, Commission staff will be available throughout the comment session to answer your questions about the environmental review process.

It is important to note that the Commission provides equal consideration to all comments received, whether filed in written form or provided orally at a comment session.

Any person seeking to become a party to the proceeding must file a motion to intervene pursuant to Rule 214 of the Commission's Rules of Practice and Procedures (18 CFR part 385.214). Motions to intervene are more fully described at https://www.ferc.gov/how-intervene. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: January 19, 2023.
Kimberly D. Bose,
Secretary.

Appendix 1

Session Format

FERC is conducting the session to solicit your comments on the Draft Environmental Impact Statement. There will not be a formal presentation by Commission staff; however, FERC staff is available to answer questions about the environmental review process. The session format is as follows:

• Tickets are handed out on a “first come, first serve” basis starting at the time listed in the Notice.

• Individuals are called in ticket number order to provide oral comments to be transcribed by a court reporter for the public record.

• Time limits on oral comments may be enforced to ensure that all those wishing to comment have the opportunity to do so within the designated session time.

• Written comments may be submitted in addition to, or in lieu of, oral comments.

• Additional materials about FERC and the environmental review process are available at information stations at the session.

Session Conduct

Proper conduct will help the sessions maintain a respectful atmosphere for attendees to learn about the FERC Environmental Review Process and to be able to provide comments effectively.

• Loudspeakers, lighting, oversized visual aids, or other visual or audible disturbances are not permitted.

• Disruptive video and photographic equipment may not be used.

• Conversations should be kept to a reasonable volume. Attendees should be respectful of those providing oral comments to the court reporters.

• Recorded interviews are not permitted within the session space.

• FERC reserves the right end the session if disruptions interfere with the opportunity for individuals to provide oral comments or if there is a safety or security risk.

[FR Doc. 2023-01492 Filed 1-25-23; 8:45 am]

BILLING CODE 6717-01-P